DEPARTMENT OF AGRICULTURE

Federal Crop Insurance Corporation

Funding Opportunity Title: Crop Insurance Education in Targeted States (Targeted States Program)

Announcement Type: Announcement of availability of funds and request for application for competitive cooperative agreements.

Catalog of Federal Domestic Assistance Number (CFDA): 10.458.

DATES: Hard copy applications are due 5 p.m. EST, May 11, 2009. Electronic applications submitted through Grants.gov are due 11:59 p.m. EST, May 11, 2009.

SUMMARY: The Federal Crop Insurance Corporation (FCIC), operating through the Risk Management Agency (RMA), announces the availability of approximately $4.5 million (subject to availability of funds) to fund cooperative agreements under the Crop Insurance Education in Targeted States program (the Targeted States Program). The purpose of this cooperative agreement program is to deliver crop insurance education and information to U.S. agricultural producers in certain States that have been designated as historically underserved with respect to crop insurance. The states, collectively referred to as Targeted States, are Connecticut, Delaware, Hawaii, Maine, Maryland, Massachusetts, Nevada, New Hampshire, New Jersey, New York, Pennsylvania, Rhode Island, Utah, Vermont, West Virginia, and Wyoming. A maximum of 16 cooperative agreements will be funded, one in each of the 16 Targeted States. Awardees must agree to the substantial involvement of RMA in the project. Funding availability for this program may be announced at approximately the same time as funding availability for similar but separate programs—CFDA No. 10.455 (Community Outreach and Assistance Partnerships), CFDA No. 10.457 (Commodity Partnerships for Risk Management Education), and CFDA No. 10.459 (Commodity Partnerships for Small Agricultural Risk Management Education Sessions). Prospective applicants should carefully examine and compare the notices for each program.

The collections of information in this announcement have been approved by OMB under control number 0563-0067, and is currently at OMB for renewal.

This Announcement Consists of Eight Sections:

Section I—Funding Opportunity Description

A. Legislative Authority

B. Background

C. Project Goal

D. Purpose

Section II—Award Information

A. Type of Award

B. Funding Availability

C. Location and Target Audience

D. Maximum Award

E. Project Period

F. Description of Agreement Award—Awardee Tasks

G. RMA Activities

H. Other Tasks

Section III—Eligibility Information

A. Eligible Applicants

B. Cost Sharing or Matching

Section IV—Application and Submission Information

A. Contact To Request Application Package

B. Content and Form of Application Submission

C. Funding Restrictions

D. Limitation on Use of Project Funds for Salaries and Benefits

E. Indirect Cost Rates

F. Other Submission Requirements

G. Electronic Submissions

H. Acknowledgement of Applications

Section V—Application Review Process

A. Criteria

B. Selection and Review Process

Section VI—Award Administration Information

A. Award Notices

B. Administrative and National Policy Requirements

1. Requirement To Use Program Logo

2. Requirement To Provide Project Information to an RMA-selected Representative

3. Private Crop Insurance Organizations and Potential Conflict of Interest

4. Access to Panel Review Information

5. Confidential Aspects of Applications and Awards

6. Audit Requirements

7. Prohibitions and Requirements Regarding Lobbying

8. Applicable OMB Circulars

9. Requirement To Assure Compliance with Federal Civil Rights Laws

10. Requirement To Participate in a Post Award Conference

11. Requirement To Submit Educational Materials to the National AgRisk Education Library

12. Requirement To Submit Proposed Results to the National AgRisk Education Library

13. Requirement To Submit a Project Plan of Operation in the Event of a Human Pandemic Outbreak

C. Reporting Requirements

Section VII—Agency Contact

Section VIII—Additional Information

A. Dun and Bradstreet Data Universal Numbering System (DUNS)

B. Required Registration With the Central Contract Registry (CCR) for Submission of Proposals

C. Related Programs

Full Text of Announcement

I. Funding Opportunity Description

A. Legislative Authority

The Targeted States Program is authorized under section 524(a)(2) of the Federal Crop Insurance Act (Act).

B. Background

RMA promotes and regulates sound risk management solutions to improve the economic stability of American agriculture. On behalf of FCIC, RMA does this by offering Federal crop insurance products through a network of private-sector partners, overseeing the creation of new risk management products, seeking enhancements in existing products, ensuring the integrity of crop insurance programs, offering outreach programs aimed at equal access and participation of underserved communities, and providing risk management education and information. One of RMA's strategic goals is to ensure that its customers are well informed of risk management solutions available. This educational goal is supported by section 524(a)(2) of the Act. This section authorizes funding for the establishment of crop insurance education and information programs in States that have historically been underserved by the Federal crop insurance program. In accordance with the Act, the sixteen States designated as “underserved” are Connecticut, Delaware, Hawaii, Maine, Maryland, Massachusetts, Nevada, New Hampshire, New Jersey, New York, Pennsylvania, Rhode Island, Utah, Vermont, West Virginia, and Wyoming (collectively referred to as “Targeted States”). Hawaii was added this fiscal year when Congress authorized the 2008 Farm Bill.

C. Project Goal

The goal of the Targeted States Program is to ensure that farmers and ranchers in the Targeted States are sufficiently informed so as to take full advantage of existing and emerging crop insurance products. In carrying out the programs established under the Food, Conservation, And Energy Act of 2008, the Secretary of Agriculture has placed special emphasis on risk management strategies, education, and outreach specifically targeted at—

(A) Beginning farmers or ranchers;

(B) legal immigrant farmers or ranchers who are attempting to become established producers in the United States;

(C) socially disadvantaged farmers or ranchers;

(D) farmers or ranchers who—

(i) Are preparing to retire; and

(ii) are using transition strategies to help new farmers or ranchers get started; and

(E) new or established farmers or ranchers who are converting production and marketing systems to pursue new markets.

D. Purpose

The purpose of the Targeted States Program is to provide farmers and ranchers in Targeted States with education and information to be able to understand:

• The kinds of risk addressed by crop insurance;

• The features of existing and emerging crop insurance products;

• The use of crop insurance in the management of risk;

• How the use of crop insurance can affect other risk management decisions, such as the use of marketing and financial tools;

• How to make informed decisions on crop insurance prior to the sales closing date deadline; and

• Recordkeeping requirements for crop insurance.

In addition, for 2009, the FCIC Board of Directors and the FCIC Manager are seeking projects that also include the Special Emphasis Topics listed below which highlight the educational priorities within each of the Targeted States:

Massachusetts—LGM Dairy Cattle, Northern Potatoes, and Nursery Crop Insurance Tools.

West Virginia—LGM Dairy Cattle, and Nursery Crop Insurance Tools.

Pennsylvania—Apiculture Rainfall Index and Vegetation Index, LGM Dairy Cattle, Pasture Rangeland Forage Rainfall Index and Vegetation Index, Northern Potatoes, and Nursery Crop Insurance Tools.

New York—Apiculture Vegetation Index, LGM Dairy Cattle, Pasture Rangeland Forage Vegetation Index, Northern Potatoes, and Nursery Crop Insurance Tools.

Connecticut—LGM Dairy Cattle, Northern Potatoes, and Nursery Crop Insurance Tools.

Delaware—LGM Dairy Cattle, Southern Potatoes, and Nursery Crop Insurance Tools.

Maine—LGM Dairy Cattle, Northern Potatoes, and Nursery Crop Insurance Tools.

Maryland—LGM Dairy Cattle, Southern Potatoes, and Nursery Crop Insurance Tools.

New Hampshire—LGM Dairy Cattle, and Nursery Crop Insurance Tools.

New Jersey—LGM Dairy Cattle, Southern Potatoes, and Nursery Crop Insurance Tools.

Rhode Island—LGM Dairy Cattle, Northern Potatoes, and Nursery Crop Insurance Tools.

Vermont—LGM Dairy Cattle, Northern Potatoes, and Nursery Crop Insurance Tools.

Wyoming—Pasture, Rangeland, and Forage, Livestock Gross Margin, Specialty Crops, and Underserved Commodities.

Nevada—Crop Insurance in general.

Utah—Crop Insurance in general.

Hawaii—Macadamia Nut and Trees, Hawaii Tropical Fruit and Trees, Nursery Crop Insurance Tools.

II. Award Information

A. Type of Award

Cooperative Agreements, which require the substantial involvement of RMA.

B. Funding Availability

Approximately $4,500,000 (subject to availability of funds) is available in fiscal year 2009 to fund up to 16 cooperative agreements, a maximum of one agreement for each of the Targeted States. The maximum funding amount anticipated for each Targeted State's agreement is as follows. Applicants should apply for funding for that Targeted State where the applicant intends to deliver the educational activities.

Connecticut | $235,000
Delaware | 263,000
Hawaii | 233,000
Maine | 243,000
Maryland | 324,000
Massachusetts | 228,000
Nevada | 235,000
New Hampshire | 212,000
New Jersey | 259,000
New York | 479,000
Pennsylvania | 562,000
Rhode Island | 204,000
Utah | 284,000
Vermont | 242,000
West Virginia | 230,000
Wyoming | 267,000
Total | 4,500,000

Funding amounts were determined by first allocating an equal amount of $200,000 to each Targeted State. Remaining funds were allocated on a pro rata basis according to each Targeted State's share of 2007 agricultural cash receipts relative to the total for all Targeted States. Both allocations were totaled for each Targeted State and rounded to the nearest $1,000. In the event that additional funds become available under this program or in the event that no application for a given Targeted State is recommended for funding by the evaluation panel, these additional funds may, at the discretion of the Manager of FCIC, be allocated pro-rata to State awardees for use in broadening the size or scope of awarded projects within the Targeted State, if agreed to by the awardee.

In the event that the Manager of FCIC determines that available RMA resources cannot support the administrative and substantial involvement requirements of all agreements recommended for funding, the Manager may elect to fund fewer agreements than the available funding might otherwise allow. It is expected that the awards will be made approximately 120 days after the application deadline. All awards will be made and agreements finalized no later than September 30, 2009.

C. Location and Target Audience

Targeted States serviced by RMA Regional Offices are listed below. Staff from the respective RMA Regional Offices will provide substantial involvement for Targeted States projects conducted within the respective Regions.

Billings, MT Regional Office: (WY).

Davis, CA Regional Office: (HI, NV and UT).

Raleigh, NC Regional Office: (CT, DE, MA, MD, ME, NH, NJ, NY, PA, RI, VT and WV).

Applicants must clearly designate the Targeted State where crop insurance educational activities for the project will be delivered in their application in block 12 of the SF-424 form, Application for Federal Assistance. Applications without this designation will be rejected. Applicants may apply to deliver education to producers in more than one Targeted State, but a separate application must be submitted for each Targeted State. Single applications proposing to conduct educational activities in more than one Targeted State will be rejected.

D. Maximum Award

Any application that requests Federal funding of more than the amount listed above for a project in a given Targeted State will be rejected.

E. Project Period

Projects will be funded for a period of up to one year from the project starting date.

F. Description of Agreement Award

Awardee Tasks

In conducting activities to achieve the purpose and goal of this program in a designated Targeted State, the awardee will be responsible for performing the following tasks:

• Develop and conduct a promotional program. This program will include activities using media, newsletters, publications, or other appropriate informational dissemination techniques that are designed to: (a) Raise awareness for crop insurance; (b) inform producers of the availability of crop insurance; (c) inform producers of the crop insurance sales closing dates prior to the deadline; and (d) inform producers and agribusiness leaders in the designated Targeted State of training and informational opportunities.

• Deliver crop insurance training and informational opportunities to agricultural producers and agribusiness professionals in the designated Targeted State in a timely manner prior to crop insurance sales closing dates in order for producers to make informed decisions prior to the crop insurance sales closing dates deadline. This will include organizing and delivering educational activities using instructional materials that have been assembled to meet the local needs of agricultural producers. Activities should be directed primarily to agricultural producers, but may include those agribusiness professionals that have frequent opportunities to advise producers on crop insurance tools and decisions.

• Document all educational activities conducted under the cooperative agreement and the results of such activities, including criteria and indicators used to evaluate the success of the program. The awardee may also be required to provide information to an RMA-selected contractor to evaluate all educational activities and advise RMA as to the effectiveness of activities.

G. RMA Activities

FCIC, working through RMA, will be substantially involved during the performance of the funded project through three of RMA's ten Regional Offices. Potential types of substantial involvement may include, but are not limited to the following activities.

• Collaborate with the awardee in assembling, reviewing, and approving risk management materials for producers in the designated RMA Region.

• Collaborate with the awardee in reviewing and approving a promotional program for raising awareness for risk management and for informing producers of training and informational opportunities in the RMA Region.

• Collaborate with the awardee on the delivery of education to producers and agribusiness leaders in the RMA Region. This will include: (a) Reviewing and approving in advance all producer and agribusiness leader educational activities; (b) advising the project leader on technical issues related to crop insurance education and information; and (c) assisting the project leader in informing crop insurance professionals about educational activity plans and scheduled meetings.

• Conduct an evaluation of the performance of the awardee in meeting the deliverables of the project.

• Assist in the selection of subcontractors and project staff.

Applications that do not contain substantial involvement by RMA will be rejected.

H. Other Tasks

In addition to the specific, required tasks listed above, the applicant may propose additional tasks that would contribute directly to the purpose of this program. For any proposed additional task, the applicant must identify the objective of the task, the specific subtasks required to meet the objective, specific time lines for performing the subtasks, and the specific responsibilities of partners. The applicant must also identify specific ways in which RMA would have substantial involvement in the proposed project task.

III. Eligibility Information

A. Eligible Applicants

Eligible applicants include State departments of agriculture, universities, non-profit agricultural organizations, and other public or private organizations with the capacity to lead a local program of crop insurance education for farmers and ranchers within a Targeted State. Individuals are eligible applicants. Although an applicant may be eligible to compete for an award based on its status as an eligible entity, other factors may exclude an applicant from receiving Federal assistance under this program governed by Federal law and regulations (e.g., debarment and suspension; a determination of non-performance on a prior contract, cooperative agreement, grant or partnership; a determination of a violation of applicable ethical standards; a determination of being considered “high risk”). Applications from ineligible or excluded persons will be rejected in their entirety.

B. Cost Sharing or Matching

Although RMA prefers cost sharing by the applicant, this program has neither a cost sharing nor a matching requirement.

IV. Application and Submission Information

A. Contact To Request Application Package

Program application materials for the Targeted States Program under this announcement may be downloaded from http://www.rma.usda.gov/aboutrma/agreements. Applicants may also request application materials from: Lydia M. Astorga, USDA-RMA-RME, phone: (202) 260-4728, fax: (202) 690-3605, e-mail: RMA.Risk-Ed@rma.usda.gov.

B. Content and Form of Application Submission

A complete and valid application must be submitted in one package at the time of initial submission, which must include the following:

1. An original and two copies of the completed and signed application.

2. A completed and signed OMB Standard Form 424, “Application for Federal Assistance.”

3. A completed and signed OMB Standard Form 424-A, “Budget Information—Non-construction Programs.”

4. A completed and signed OMB Standard Form 424-B, “Assurances, Non-constructive Programs.”

5. An electronic copy (Microsoft Word format preferred) on a compact disk (CD) of the completed:

a. Risk Management Education Project Narrative (RME-1 Form). Complete all required parts.

b. “Written Narrative”—no more than 10 single-sided pages which will provide reviewers with sufficient information to effectively evaluate the merits of the application according to the evaluation criteria listed in this notice. Although a Statement of Work, which is the third evaluation criterion, is to be completed in detail on RME-2 Form, applicants may wish to highlight certain unique features of the Statement of Work for the benefit of the evaluation panel. If your narrative exceeds the page limit, only the first 10 pages will be reviewed.

• No smaller than 12 point font size.

• Use an easily readable font face (e.g., Arial, Geneva, Helvetica, Times Roman).

• 8.5 by 11 inch paper.

• One-inch margins on each page.

• Printed on only one side of paper.

• Held together only by rubber bands or metal clips; not bound or stapled in any other way.

c. “Budget Narrative,” describing how the categorical costs listed on SF 424-A are derived. The budget narrative should provide enough detail for reviewers to easily understand how costs were determined and how they relate to the goals and objectives of the project.

d. “Partnering Plan” include how each partner will aid in carrying out the project goal providing specific tasks. Letters of commitment from individuals and/or groups, dated at least 60 days prior to the application date, and should indicate the specific tasks they have agreed to do with the applicant.

e. “Statement of Work,” RME-2 Form, which identifies tasks and subtasks in detail, expected completion dates and deliverables, and RMA's substantial involvement role for the proposed project.

6. A completed and signed OMB Standard Form LLL, “Disclosure of Lobbying Activities.”

7. A completed and signed AD-1047, “Certification Regarding Debarment, Suspension and Other Responsibility Matters—Primary Covered Transactions.”

8. A completed and signed AD-1049, “Certification Regarding Drug-Free Workplace.” Applications that do not include items 1-8 above will be considered incomplete, will not receive further consideration, and will be rejected. The RME-1 Form, the RME-2 Form, Written Narrative, Budget Narrative, and Partnering Plan must be provided in electronic copy (Microsoft Word format preferred) on a compact disk (CD).

C. Funding Restrictions

Cooperative agreement funds may not be used to:

a. Plan, repair, rehabilitate, acquire, or construct a building or facility including a processing facility;

b. purchase, rent, or install fixed equipment;

c. repair or maintain privately owned vehicles;

d. pay for the preparation of the cooperative agreement application;

e. fund political activities;

f. purchase alcohol, food, beverage, or entertainment;

g. lend money to support farming or agricultural business operation or expansion;

h. pay costs incurred prior to receiving a partnership agreement; or

i. fund any activities prohibited in 7 CFR Parts 3015 and 3019, as applicable.

D. Limitation on Use of Project Funds for Salaries and Benefits

Total costs for salary and benefits allowed for projects under this announcement will be limited to not more than 70 percent reimbursement of the funds awarded under the cooperative agreement. One goal of the Targeted States Program is to maximize the use of the limited funding available for crop insurance education for Targeted States. In order to accomplish this goal, RMA needs to ensure that the maximum amount of funds practicable is used for directly providing the educational opportunities. Limiting the amount of funding for salaries and benefits will allow the limited amount of funding to reach the maximum number of farmers and ranchers.

E. Indirect Cost Rates

a. Indirect costs allowed for projects submitted under this announcement will be limited to ten (10) percent of the total direct cost of the cooperative agreement. Therefore, when preparing budgets, applicants should limit their requests for recovery of indirect costs to the lesser of their institution's official negotiated indirect cost rate or 10 percent of the total direct costs.

b. RMA reserves the right to negotiate final budgets with successful applicants.

c. Applicants may be asked to provide a copy of their indirect cost rate negotiated with their cognizant agency.

F. Other Submission Requirements

Mailed Submissions: Applications submitted through express, overnight mail or another delivery service will be considered as meeting the announced deadline if they are received in the mailroom at the address stated below for express, overnight mail or another delivery service on or before the deadline. Applicants are cautioned that express, overnight mail or other delivery services do not always deliver as agreed. Applicants should take this into account because failure of such delivery services will not extend the deadline. Mailed applications will be considered as meeting the announced deadline if they are received on or before the deadline in the mailroom at the address stated below for mailed applications. Applicants using the U.S. Postal Service (USPS) should allow for the extra time for delivery due to the additional security measures that mail delivered to government offices in the Washington, DC area requires. USPS mail sent to Washington, DC headquarters is sanitized offsite, which may result in delays, loss, and physical damage to enclosures.

Address when using private delivery services or when hand delivering: Attention: Risk Management Education Program:

USDA/RMA/RME, Room 6709, South Building, 1400 Independence Avenue, SW., Washington, DC 20250.

Address when using U.S. Postal Services:

Attention: Risk Management Education Program, USDA/RMA/RME/Stop 0808, Room 6709, South Building, 1400 Independence Ave, SW., Washington, DC 20250-0808.

Applicants are responsible for ensuring that RMA receives a complete application package by the closing date and time. Regardless of the delivery method you choose, please do so sufficiently in advance of the due date to ensure your application package is received on or before the deadline. E-mailed and faxed applications will not be accepted. Application packages received after the deadline will not receive further consideration and will be rejected.

G. Electronic Submissions

Applications transmitted electronically via Grants.gov will be accepted prior to the application date or time deadline. The application package can be accessed via Grants.gov, go to http://www.grants.gov, click on “Find Grant Opportunities,” click on “Search Grant Opportunities,” and enter the CFDA number (found at the beginning of the RFA) to search by CFDA number. From the search results, select the item that correlates to the title of this RFA. If you do not have electronic access to the RFA or have trouble downloading material and you would like a hardcopy, you may contact Lydia M. Astorga, USDA-RMA-RME, phone: (202) 260-4728, fax: (202) 690-3605, e-mail: RMA.Risk-Ed@rma.usda.gov.

If assistance is needed to access the application package via Grants.gov (e.g., downloading or navigating PureEdge forms, using PureEdge with a Macintosh computer, using Adobe), refer to resources available on the Grants.gov Web site first (http://www.grants.gov/). Grants.gov assistance is also available as follows:

• Grants.gov Customer Support.

Toll Free: 1-800-518-4726.

Business Hours: M-F 7 a.m.-9 p.m. Eastern Standard Time.

E-mail: support@grants.gov.

Applicants who submit their applications via the Grants.gov Web site are not required to submit any hard copy documents to RMA.

When using Grants.gov to apply, RMA strongly recommends that you submit the online application at least two weeks prior to the application due date in case there are problems with the Grants.gov Web site and you want to submit your application via a mail delivery service.

Electronic applications submitted through Grants.gov are due at 11:59 p.m. EST on the application deadline date.

H. Acknowledgement of Applications

Receipt of applications will be acknowledged by e-mail, whenever possible. Therefore, applicants are encouraged to provide e-mail addresses in their applications. If an e-mail address is not indicated on an application, receipt will be acknowledged by letter. There will be no notification of incomplete, unqualified or unfunded applications until the awards have been made. When received by RMA, applications will be assigned an identification number. This number will be communicated to applicants in the acknowledgement of receipt of applications. An application's identification number should be referenced in all correspondence regarding the application. If the applicant does not receive an acknowledgement within 15 days of the submission deadline, the applicant should notify RMA's point of contact indicated in Section VII. Agency Contact.

V. Application Review Information

A. Criteria

Applications submitted under the Targeted States program will be evaluated within each Targeted State according to the following criteria:

Project Impacts—Maximum 30 Points

The applicant must demonstrate that the project benefits to farmers and ranchers warrant the funding requested. Applicants will be scored according to the extent they can: (a) Identify the specific actions producers will likely be able to take as a result of the educational activities described in the Statement of Work; (b) identify the specific measures for evaluating results that will be employed in the project; (c) reasonably estimate the total number of producers reached through the various methods and educational activities described in the Statement of Work; and (d) justify such estimates with clear specifics. Reviewers' scoring will be based on the scope and reasonableness of the applicant's clear descriptions of specific, expected actions producers will accomplish, and well-designed methods for measuring the project's results and effectiveness. Applicants using direct contact methods with producers will be scored higher.

Statement of Work—Maximum 20 Points

The applicant must produce a clear and specific Statement of Work for the project. For each of the tasks contained in the Description of Agreement Award (refer to Section II Award Information), the applicant must identify and describe specific subtasks, responsible entities, expected completion dates, RMA substantial involvement, and deliverables that will further the purpose of this program. Applicants will obtain a higher score to the extent that the Statement of Work is specific, measurable, reasonable, has specific deadlines for the completion of subtasks, relates directly to the required activities and the program purpose described in this announcement. Applicants are required to submit this Statement of Work on RME-2 Form. All narratives should give estimates of how many producers will be reached through this project. Estimates for non-producers can also be made but they should be separate from the estimates of producers.

Partnering—Maximum 15 Points

The applicant must demonstrate experience and capacity to partner with and gain the support of grower organizations, agribusiness professionals, and agricultural leaders to carry out a local program of education and information in a designated Targeted State. The applicant is required to establish a written partnering plan that includes how each partner will aid in carrying out the project goal and purpose stated in this announcement and letters of commitment dated no more than 60 days prior to submission of application stating that the partner has agreed to do this work. The applicant must ensure this plan includes a list of all partners working on the project, their titles, and how they will be contributing to the deliverables listed in the agreement. The partnering plan will not count towards the maximum length of the application narrative. Applicants will receive higher scores to the extent that they can document and demonstrate in the written partnering plan: (a) That partnership commitments are in place for the express purpose of delivering the program in this announcement; (b) that a broad group of farmers and ranchers will be reached within the Targeted State; (c) that partners are contributing to the project and involved in recruiting producers to attend the training; (d) that a substantial effort has been made to partner with organizations that can meet the needs of producers; and (e) statements from each partner regarding the number of producers that partner is committed to recruit for the project that would support the estimates specified under the Project Impacts criterion.

Project Management—Maximum 15 Points

The applicant must demonstrate an ability to implement sound and effective project management practices. Higher scores will be awarded to applicants that can demonstrate organizational skills, leadership, and experience in delivering services or programs that assist agricultural producers in the respective Targeted State. The project manager must demonstrate that he/she has the capability to accomplish the project goal and purpose stated in this announcement by (a) having a previous working relationship with the farm community in the designated Targeted State of the application, including being able to recruit approximately the number of producers to be reached in the application and/or (b) having established the capacity to partner with and gain the support of grower organizations, agribusiness professionals, and agribusiness leaders locally to aid in carrying out a program of education and information, including being able to recruit approximately the number of producers to be reached in this application. Applicants are encouraged to designate an alternate Project Leader in the event the Project Leader is unable to finish the project. Applicants that will employ, or have access to, personnel who have experience in directing local educational programs that benefit agricultural producers in the respective Targeted State will receive higher rankings.

Budget Appropriateness and Efficiency—Maximum 15 Points

Applicants must provide a detailed budget summary that clearly explains and justifies costs associated with the project. Applicants will receive higher scores to the extent that they can demonstrate a fair and reasonable use of funds appropriate for the project and a budget that contains the estimated cost of reaching each individual producer. The applicant must provide information factors such as:

• The allowability and necessity for individual cost categories;

• The reasonableness of amounts estimated for necessary costs;

• The basis used for allocating indirect or overhead costs;

• The appropriateness of allocating particular overhead costs to the proposed project as direct costs; and

• The percent of time devoted to the project for all key project personnel identified in the application. Salaries of project personnel should be requested in proportion to the percent of time that they would devote to the project and cannot exceed 70 percent of the total project budget. Applicants must list all current public or private support to which personnel identified in the application have committed portions of their time, whether or not salary support for persons involved is included in the budget. Only items or services that are necessary for the successful completion of the project will be funded as permitted under the Act. An application that duplicates or overlaps substantially with an application already reviewed and funded (or to be funded) by another organization or agency will not be funded under this program. The projects proposed for funding should be included in the pending section.

Targeted Producers—Maximum 10 Points

Applicants will obtain a higher score to the extent that the project places special emphasis on risk management strategies, education, and outreach specifically targeted at:

• Beginning farmers or ranchers;

• Legal immigrant farmers or ranchers who are attempting to become established producers in the United States;

• Socially disadvantaged farmers or ranchers;

• Farmers or ranchers who—

○ Are preparing to retire; and

○ Are using transition strategies to help new farmers or ranchers get started; and

• New or established farmers or ranchers who are converting production and marketing systems to pursue new markets.

Past Performance—Maximum 10 Points

If the applicant has been an awardee of other Federal or other government grants, cooperative agreements, or contracts in the past three years, the applicant must provide information relating to their past performance in reporting on outputs and outcomes under past or current Federal assistance agreements or contracts. The applicant must also detail that they have consistently complied with financial and program reporting and auditing requirements. RMA will review past performance reports during the review panel process. RMA reserves the right to add up to10 points or subtract up to 10 points from applications due to past performance. RMA has established 10 evaluation standards from which your past performance scores is based upon. The 10 evaluation standards are demonstrated by: (1) Submitting all required documents (educational and promotional) to the RO for review prior to dissemination, (2) developing a training plan or accurate set of instructional materials, (3) delivering the materials to his/her intended audience as specified in the statement of work, (4) being able to draw at least 50 percent of the audience estimated in the application, (5) developing a promotional plan or accurate set of promotional materials and properly promoting the program to his/her intended audience, (6) using the RMA logo when deemed appropriate, (7) participating in quarterly conference calls when asked, (8) notifying RO employees of when crop insurance and risk management education workshops and seminars are being held in their region in timely manner, (9) submitting complete quarterly reports by established deadlines, and (10) achieving the goals and objectives stated upfront in the statement of work. Applicants with very good past performance will receive a score from 6-10 points. Very good past performance is designated by an agreement holder that meets the 10 standards stated above from 70 percent to 100 percent of the time. Applicants with acceptable past performance will receive a score from 1-5 points when the 10 standards are met 40 percent to 69 percent of the time. Applicants with unacceptable past performance will receive a score of zero to minus 10 points when an applicant meets the 10 standards less than 39 percent of the time. Applicants without relevant past performance information will receive a neutral score of the mean number of points of all applicants with past performance. These past performance points will be applied only to applications that the review panel scored above the minimum score. Applications receiving less than the minimum score required to be eligible for potential funding will not receive past performance points.

Projected Audience Description—Maximum 5 Points

The applicant must clearly identify and describe the targeted audience for the project. Applicants will receive higher scores to the extent that they can reasonably and clearly describe their target audience and why the audience would choose to participate in the project. The applicant must describe why the proposed audience wants the information the project will deliver and how they will benefit from it.

B. Review and Selection Process

Applications will be evaluated using a two-part process. First, each application will be screened by RMA personnel to ensure that it meets the requirements in this announcement. Applications that do not meet the requirements of this announcement or are incomplete will not receive further consideration during the next process. Applications that meet announcement requirements will be sorted into the Targeted State in which the applicant proposes to conduct the project and will be presented to a review panel for consideration.

Second, the review panel will meet to consider and discuss the merits of each application. The panel will consist of not less than three independent reviewers. Reviewers will be drawn from USDA, other Federal agencies, and others representing public and private organizations, as needed. After considering the merits of all applications within a Targeted State, panel members will score each application according to the criteria and point values listed above. The panel will then rank each application against others within the Targeted State according to the scores received. A lottery will be used to resolve any instances of a tie score that might have a bearing on funding recommendations. If such a lottery is required, the names of all tied applicants will be entered into a drawing. The first tied applicant drawn will have priority over other tied applicants for funding consideration.

The review panel will report the results of the evaluation to the Manager of FCIC. The panel's report will include the recommended applicants to receive cooperative agreements for each Targeted State. Funding will not be provided for an application receiving a score less than 60. An organization, or group of organizations in partnership, may apply for funding under other FCIC or RMA programs, in addition to the program described in this announcement. However, if the Manager of FCIC determines that an application recommended for funding is sufficiently similar to a project that has been funded or has been recommended to be funded under another RMA or FCIC program, then the Manager may elect to not fund that application in whole or in part. The Manager of FCIC will make the final determination on those applications that will be awarded funding.

VI. Award Administration Information

A. Award Notices

Following approval by the awarding official of RMA of the applications to be selected for funding, project leaders whose applications have been selected for funding will be notified. Within the limit of funds available for such a purpose, the awarding official of RMA shall enter into cooperative agreements with those awardees. The agreements provide the amount of Federal funds for use in the project period, the terms and conditions of the award, and the time period for the project. The effective date of the agreement shall be the date the agreement is executed by both parties and it shall remain in effect for up to one year or through September 30, 2010, whichever is later. After a cooperative agreement has been signed, RMA will extend to awardees, in writing, the authority to draw down funds for the purpose of conducting the activities listed in the agreement. All funds provided to the awardee by FCIC must be expended solely for the purpose for which the funds are obligated in accordance with the approved agreement and budget, the regulations, the terms and conditions of the award, and the applicability of Federal cost principles. No commitment of Federal assistance beyond the project period is made or implied for any award resulting from this notice.

Notification of denial of funding will be sent to applicants after final funding decisions have been made and awardees announced publicly. Reasons for denial of funding can include, but are not limited to, incomplete applications, applications with evaluation scores below 60, or applications with evaluation scores that are lower than those of other applications in a Targeted State.

B. Administrative and National Policy Requirements

1. Requirement to Use Program Logo

Awardees of cooperative agreements will be required to use a program logo and design provided by RMA for all instructional and promotional materials, if appropriate.

2. Requirement To Provide Project Information to an RMA-Selected Representative

Awardees of cooperative agreements may be required to assist RMA in evaluating the effectiveness of its educational programs by providing documentation of educational activities and related information to any representative selected by RMA for program evaluation purposes.

3. Private Crop Insurance Organizations and Potential Conflicts of Interest

Private organizations that are involved in the sale of Federal crop insurance, or that have financial ties to such organizations, are eligible to apply for funding under this announcement. However, such entities will not be allowed to receive funding to conduct activities that would otherwise be required under a Standard Reinsurance Agreement or any other agreement in effect between FCIC and the entity. Also, such entities will not be allowed to receive funding to conduct activities that could be perceived by producers as promoting one company's services or products over another's. If applying for funding, such organizations are encouraged to be sensitive to potential conflicts of interest and to describe in their application the specific actions they will take to avoid actual and perceived conflicts of interest.

4. Access to Panel Review Information

Upon written request from the applicant, scores from the evaluation panel, not including the identity of reviewers, will be sent to the applicant after the review and awards process has been completed.

5. Confidential Aspects of Applications and Awards

The names of applicants, the names of individuals identified in the applications, the content of applications, and the panel evaluations of applications will all be kept confidential, except to those involved in the review process, to the extent permitted by law. In addition, the identities of review panel members will remain confidential throughout the entire review process and will not be released to applicants. At the end of the fiscal year, names of panel members will be made available. However, panelists will not be identified with the review of any particular application.

When an application results in a cooperative agreement, that agreement becomes a part of the official record of RMA transactions, available to the public upon specific request. Information that the Secretary of Agriculture determines to be of a confidential, privileged, or proprietary nature will be held in confidence to the extent permitted by law. Therefore, any information that the applicant wishes to be considered confidential, privileged, or proprietary should be clearly marked within an application, including the basis for such designation. The original copy of an application that does not result in an award will be retained by RMA for a period of one year. Other copies will be destroyed. Copies of applications not receiving awards will be released only with the express written consent of the applicant or to the extent required by law. An application may be withdrawn at any time prior to award.

6. Audit Requirements

Awardees of cooperative agreements are subject to audit.

7. Prohibitions and Requirements With Regard to Lobbying

Section 1352 of Public Law 101-121, enacted on October 23, 1989, imposes prohibitions and requirements for disclosure and certification related to lobbying on awardees of Federal contracts, grants, cooperative agreements, and loans. It provides exemptions for Indian Tribes and Tribal organizations. Current and prospective awardees, and any subcontractors, are prohibited from using Federal funds, other than profits from a Federal contract, for lobbying Congress or any Federal agency in connection with the award of a contract, grant, cooperative agreement, or loan. In addition, for each award action in excess of $100,000 ($150,000 for loans) the law requires awardees and any subcontractors: (1) To certify that they have neither used nor will use any appropriated funds for payment of lobbyists; (2) to disclose the name, address, payment details, and purpose of any agreements with lobbyists whom awardees of their subcontractors will pay with profits or other non-appropriated funds on or after December 22, 1989; and (3) to file quarterly up-dates about the use of lobbyists if material changes occur in their use. The law establishes civil penalties for non-compliance. A copy of the certification and disclosure forms must be submitted with the application and are available at the address and telephone number listed in Section VII. Agency Contact.

8. Applicable OMB Circulars

All cooperative agreements funded as a result of this notice will be subject to the requirements contained in all applicable OMB circulars.

9. Requirement To Assure Compliance With Federal Civil Rights Laws

Project leaders of all cooperative agreements funded as a result of this notice are required to know and abide by Federal civil rights laws and to assure USDA and RMA that the awardee is in compliance with and will continue to comply with Title VI of the Civil Rights Act of 1964 (42 U.S.C. 2000d et seq.), 7 CFR Part 15, and USDA regulations promulgated thereunder, 7 CFR 1901.202. RMA requires that awardees submit an Assurance Agreement (Civil Rights), assuring RMA of this compliance prior to the beginning of the project period.

10. Requirement To Participate in a Post Award Conference

RMA requires that project leaders attend a post award conference, if conducted, to become fully aware of cooperative agreement requirements and for delineating the roles of RMA personnel and the procedures that will be followed in administering the agreement and will afford an opportunity for the orderly transition of agreement duties and obligations if different personnel are to assume post-award responsibility. In their applications, applicants should budget for possible travel costs associated with attending this conference.

11. Requirement To Submit Educational Materials to the National AgRisk Education Library

RMA requires that project leaders upload digital copies of all risk management educational materials developed because of the project to the National AgRisk Education Library (http://www.agrisk.umn.edu/) for posting, if electronically reporting. RMA will be clearly identified as having provided funding for the materials. Project leaders not reporting electronically will not be required to post educational materials onto the National AgRisk Education Library, but are highly encouraged to do so.

12. Requirement To Submit Proposed Results to the National AgRisk Education Library

RMA requires that project leaders submit results of the project to the National AgRisk Education Library (http://www.agrisk.umn.edu/) for posting if electronically reporting. Project leaders not reporting electronically will not be required to post results onto the National AgRisk Education Library, but are highly encouraged to do so.

13. Requirement To Submit a Project Plan of Operation in the Event of a Human Pandemic Outbreak

RMA requires that project leaders submit a project plan of operation in case of a human pandemic event. The plan should address the concept of continuing operations as they relate to the project. This should include the roles, responsibilities, and contact information for the project team and individuals serving as back-ups in case of a pandemic outbreak.

C. Reporting Requirements

Awardees will be required to submit quarterly progress reports, quarterly financial reports (OMB Standard Form 269), and quarterly Activity Logs (RMA 300 Form) throughout the project period, as well as a final program and financial report not later than 90 days after the end of the project period.

Awardees will be required to submit prior to the award:

• A completed and signed Assurance Agreement (Civil Rights).

• A completed and signed Faith-Based Survey on EEO.

VII. Agency Contact

FOR FURTHER INFORMATION CONTACT: Applicants and other interested parties are encouraged to contact: Lydia M. Astorga, USDA-RMA-RME, phone: 202-260-4728, fax: 202-690-3605, e-mail: RMA.Risk-Ed@rma.usda.gov. You may also obtain information regarding this announcement from the RMA Web site at: http://www.rma.usda.gov/aboutrma/agreements/.

VIII. Other Information

A. Dun and Bradstreet Data Universal Numbering System (DUNS)

A DUNS number is a unique nine-digit sequence recognized as the universal standard for identifying and keeping track of over 70 million businesses worldwide. The Office of Management and Budget published a notice of final policy issuance in the Federal Register June 27, 2003 (68 FR 38402) that requires a DUNS number in every application (i.e., hard copy and electronic) for a grant or cooperative agreement on or after October 1, 2003. Therefore, potential applicants should verify that they have a DUNS number or take the steps needed to obtain one. For information about how to obtain a DUNS number, go to http://www.grants.gov. Please note that the registration may take up to 14 business days to complete.

B. Required Registration with the Central Contract Registry (CCR) for Submission of Proposals

The Central Contract Registry (CCR) is a database that serves as the primary Government repository for contractor information required for the conduct of business with the Government. This database will also be used as a central location for maintaining organizational information for organizations seeking and receiving grants from the Government. Such organizations must register in the CCR prior to the submission of applications. A DUNS number is needed for CCR registration. For information about how to register in the CCR, visit ”Get Started” at the Web site, http://www.grants.gov. Allow a minimum of 5 business days to complete the CCR registration.

C. Related Programs

Funding availability for this program may be announced at approximately the same time as funding availability for similar but separate programs—CFDA No. 10.455 (Community Outreach and Assistance Partnerships), and CFDA No. 10.457 (Commodity Partnerships For Risk Management Education). These programs have some similarities, but also key differences. The differences stem from important features of each program's authorizing legislation and different RMA objectives. Prospective applicants should carefully examine and compare the notices for each program.

Signed in Washington, DC, on March 4, 2009.
William J. Murphy,
Acting Manager, Federal Crop Insurance Corporation.

[FR Doc. E9-6821 Filed 3-26-09; 8:45 am]

BILLING CODE